DEPARTMENT OF AGRICULTURE

Forest Service

Shady/Highbush Environmental Impact Statement

AGENCY: Forest Service, USDA.

ACTION: Rescind notice of intent to prepare an Environmental Impact Statement.

SUMMARY: The Department of Agriculture, Forest Service, is issuing this notice to advise the public that we are rescinding an Environmental Impact Statement (EIS) for timber harvest in the Shady Highbush Timber Sale project area, Wrangell Ranger District, Tongass National Forest.

FOR FURTHER INFORMATION CONTACT: Chip Weber, District Ranger, or Randy Hojem, IDT Leader, Wrangell Ranger District, Tongass National Forest, P.O. Cox 51, Wrangell, AK 99929, telephone (907) 874-2323.

SUPPLEMENTARY INFORMATION: The Department of Agriculture, Forest Service, is rescinding the NOI to prepare an EIS for timber harvest in the Shady Highbush Timber Sale project area, Wrangell Ranger District, Tongass National Forest. The NOI was published on Friday, March 8, 2002, and can be found in the Federal Register vol. 67, no. 46, page 10661. The NOI is being rescinded because the Department of Agriculture, Forest Service, has substantially reduced the scope of the project, and in so doing, has determined that an environmental assessment will be prepared for the project.

Responsible Official: Forrest Cole, Forest Supervisor, Tongass National Forest, Federal Building, Ketchikan, Alaska 99901, is the responsible official.

Dated: March 22, 2004.
Forrest Cole,
Forest Supervisor.

[FR Doc. 04-8038 Filed 4-8-04; 8:45 am]

BILLING CODE 3410-11-M